DEPARTMENT OF COMMERCE

International Trade Administration

[A-533-810]

Stainless Steel Bar From India: Final Results of Antidumping Duty Administrative Review; 2011-2012

AGENCY: Import Administration, International Trade Administration, Department of Commerce.

SUMMARY: On February 1, 2013, the Department of Commerce (Department) published the preliminary results of the administrative review of the antidumping duty order on stainless steel bar from India (Preliminary Results).¹ The review covers shipments of subject merchandise to the United States for the period February 1, 2011, through January 31, 2012, by Ambica Steels Limited (Ambica). We continue to find that Ambica has not sold subject merchandise at less than normal value.

¹ See Stainless Steel Bar from India: Preliminary Results of the Antidumping Duty Administrative Review, 78 FR 7395 (February 1, 2013) (Preliminary Results).

DATES: As of June 7, 2013.

FOR FURTHER INFORMATION CONTACT: Joseph Shuler or Yasmin Nair, AD/CVD Operations, Office 1, Import Administration, International Trade Administration, U.S. Department of Commerce, 14th Street and Constitution Avenue NW., Washington DC 20230; telephone (202) 482-1293, or (202) 482-3813, respectively.

SUPPLEMENTARY INFORMATION:

Scope of the Order

The merchandise subject to the order is stainless steel bar. The stainless steel bar subject to the order is currently classifiable under subheadings 7222.10.00, 7222.11.00, 7222.19.00, 7222.20.00, 7222.30.00 of the Harmonized Tariff Schedule (HTS). The HTS subheadings are provided for convenience and customs purposes. For a full description of the scope of the order, see Memorandum to Paul Piquado, Assistant Secretary for Import Administration, from Christian Marsh, Deputy Assistant Secretary for Antidumping and Countervailing Duty Operations, “Issues and Decision Memorandum for the 2011-2012 Administrative Review of Stainless Steel Bar from India” (Final IDM). The written description is dispositive.

Analysis of Comments Received

All issues raised in the case briefs are addressed in the Final IDM, dated concurrently and hereby adopted by this notice. A list of the issues which parties raised and to which we responded in the Final IDM is attached to this notice as an Appendix. The Final IDM is a public document and is on file electronically via Import Administration's Antidumping and Countervailing Duty Centralized Electronic Service System (IA ACCESS). IA ACCESS is available to registered users at http://iaaccess.trade.gov and in the Central Records Unit (CRU), Room 7046 of the main Department of Commerce building. In addition, a complete version of the Final IDM can be accessed directly on the Internet at http://www.trade.gov/ia/. The signed Final IDM and the electronic versions of the Final IDM are identical in content.

Changes From the Preliminary Results

Based on our analysis of the comments received since the Preliminary Results, we have made the following changes in calculating Ambica's weighted-average dumping margin for the final results: (1) We removed the billing adjustments from the net prices in the comparison and U.S. markets; (2) we capped packing revenue by the amount of packing revenue Ambica recouped from certain customers; and, (3) we re-classified a previously affiliated loan from the Preliminary Results as non-affiliated and recalculated Ambica's net financial expense ratio, excluding the previously affiliated loan. See Memorandum to the File from Joseph Shuler, “Final Results Calculation Memorandum for Ambica,” June 3, 2013, and Memorandum to Neal M. Halper, Director, Office of Accounting, through Peter S. Scholl, Lead Accountant, from Sheikh M. Hannan, Senior Accountant, titled “Cost Calculation Adjustment Memorandum for the Final Results,” June 3, 2013.

Final Results of the Review

We determine that the following weighted-average dumping margin exists for Ambica for the period February 1, 2011, through January 31, 2012.

Exporter/manufacturer | Margin (percent)
Ambica Steels Limited | 0.00

Disclosure

Pursuant to 19 CFR 351.224(b), we intend to disclose calculation memoranda used in our analysis to parties to these proceedings within five days of the date of publication of this notice.

Assessment Rates

Pursuant to section 751(a)(2)(A) of the Tariff Act of 1930, as amended (the Act), and 19 CFR 351.212(b), the Department will determine, and U.S. Customs and Border Protection (CBP) shall assess, antidumping duties on all appropriate entries of subject merchandise in accordance with the final results of this review. The Department intends to issue assessment instructions to CBP 15 days after the date of publication of these final results of review.

In accordance with the Final Modification, we will instruct CBP to liquidate Ambica's entries covered in this review without regard to antidumping duties.²

² See Antidumping Proceedings: Calculation of the Weighted-Average Dumping Margin and Assessment Rate in Certain Antidumping Duty Proceedings; Final Modification, 77 FR 8101 (February 14, 2012) (Final Modification).

The Department clarified its “automatic assessment” regulation on May 6, 2003. See Antidumping and Countervailing Duty Proceedings: Assessment of Antidumping Duties, 68 FR 23954 (May 6, 2003) (Assessment Policy Notice). This clarification will apply to entries of subject merchandise during the period of review produced by Ambica for which Ambica did not know the merchandise was destined for the United States. In such instances, we will instruct CBP to liquidate un-reviewed entries at 12.45 percent, the “all others” rate established in the LTFV investigation if there is no rate for the intermediate company(ies) involved in the transaction. See Notice of Final Determination of Sales at Less Than Fair Value: Stainless Steel Bar from India, 59 FR 66915 (December 28, 1994); see also Assessment Policy Notice.

Cash Deposit Requirements

The following deposit rates will be effective upon publication of the final results of this administrative review for all shipments of stainless steel bar from India entered, or withdrawn from warehouse, for consumption on or after the publication date, as provided by section 751(a)(2)(C) of the Act: (1) For the company covered by this review, the cash deposit rate will be zero; (2) for previously reviewed or investigated companies not listed above, the cash deposit rate will continue to be the company-specific rate published for the most recent final results in which that manufacturer or exporter participated; (3) if the exporter is not a firm covered in this review, a prior review, or the original LTFV investigation, but the producer is, the cash deposit rate will be the rate established for the most recent final results for the manufacturer of the merchandise; and (4) if neither the exporter nor the producer is a firm covered in this or any previous review conducted by the Department, the cash deposit rate will be 12.45 percent, the “all others” rate established in the LTFV investigation.³ These cash deposit requirements, when imposed, shall remain in effect until further notice.

³ See Notice of Final Determination of Sales at Less Than Fair Value: Stainless Steel Bar from India, 59 FR 66915 (December 28, 1994).

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

These final results of review are issued and published in accordance with sections 751(a)(1) and 777(i)(1) of the Act.

Dated: June 3, 2013.
Paul Piquado,
Assistant Secretary for Import Administration.

Appendix—Issues in Decision Memorandum

Comment 1: Whether Ambica Has Withheld Information Related to Affiliated Companies

Comment 2: Whether Ambica Has Been Uncooperative or Withheld Information

Comment 3: Whether the Department should re-classify certain Ambica transactions as constructed export price sales

Comment 4: Whether the Department should adjust the interest rate on Ambica's loans provided from non-affiliates

Comment 5: Whether the Department erred in the calculation of net U.S. and home market prices

Comment 6: Whether the Department should correct its calculation of the per-unit G&A and Interest Expenses

[FR Doc. 2013-13567 Filed 6-6-13; 8:45 am]

BILLING CODE 3510-DS-P